DEPARTMENT OF COMMERCE

International Trade Administration

Overseas Trade Missions

AGENCY: International Trade Administration, Department of Commerce.

ACTION: Notice.

SUMMARY: The Department of Commerce invites U.S. companies to participate in the below listed overseas trade missions. For a more complete description, obtain a copy of the mission statement from the Project Officer indicated below.

Aerospace Executive Service at the Australian International Airshow

Avalon Airport, Melbourne, Australia.

February 12-14, 2003.

Recruitment closes on January 3, 2003.

For further information contact: Ms. Diane Mooney, U.S. Department of Commerce, telephone 206-553-7261, or e-mail to dmooney@mail.doc.gov.

Environmental Technologies Trade Mission

Milan, Italy.

March 5-8, 2003.

Recruitment closes on January 10, 2003.

For further information contact: Ms. Yvonne Jackson, U.S. Department of Commerce, telephone 202-482-2675, or e-mail to Yvonne.Jackson@mail.doc.gov.

U.S. Microelectronics Trade Mission to Shanghai, China

March 10-14, 2003.

Recruitment closes on January 31, 2003.

For further information contact: Ms. Marlene Ruffin, U.S. Department of Commerce, telephone 202-482-0570, or e-mail to Marlene_Ruffin@ita.doc.gov.

ACE/Infrastructure Trade Mission to China

Beijing, Shanghai and Hong Kong (SAR).

April 7-15, 2003.

Recruitment closes on January 31, 2003.

For further information contact: Mr. Sam Dhir, U.S. Department of Commerce, telephone 202-482-4756, or e-mail to Sam.Dhir@mail.doc.gov.

Recuitment and selection of private sector participants for these trade missions will be conducted according to the Statement of Policy Governing Department of Commerce Overseas Trade Missions dated March 3, 1997. For further information contact Mr. Thomas Nisbet, U.S. Department of Commerce, telephone 202-482-5657, or e-mail Tom_Nisbet@ita.doc.gov.

Dated: November 26, 2002.
Thomas H. Nisbet,
Director, Export Promotion Coordination, Office of Planning, Coordination and Management.

[FR Doc. 02-30629 Filed 12-2-02; 8:45 am]

BILLING CODE 3510-DR-P